DEPARTMENT OF TRANSPORTATION

Office of the Secretary

Notice of Applications for Certificates of Public Convenience and Necessity and Foreign Air Carrier Permits Filed Under Subpart B (formerly Subpart Q) during the Week Ending August 30, 2014

The following Applications for Certificates of Public Convenience and Necessity and Foreign Air Carrier Permits were filed under Subpart B (formerly Subpart Q) of the Department of Transportation's Procedural Regulations (See 14 CFR 302.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0145.

Date Filed: August 25, 2014.

Due Date for Answers, Conforming Applications, or Motion to Modify Scope: September 15, 2014.

Description: Application of Harris Aircraft Services, Inc. requesting a certificate of public convenience and necessity to authorize it to provide scheduled interstate air transportation of persons, property and mail utilizing small aircraft.

Barbara J. Hairston,
Supervisory Dockets Officer, Docket Operations, Federal Register Liaison.

[FR Doc. 2014-22142 Filed 9-16-14; 8:45 am]

BILLING CODE 4910-9X-P